DEPARTMENT OF HEALTH AND HUMAN SERVICES

Substance Abuse and Mental Health Services Administration

Fiscal Year (FY) 2012 Funding Opportunity

AGENCY: Substance Abuse and Mental Health Services Administration, HHS.

ACTION: Notice of intent to award a single source grant to the University of California Los Angeles (UCLA).

SUMMARY: This notice is to inform the public that the Substance Abuse and Mental Health Services Administration (SAMHSA) intends to award approximately $130,000 (total costs) for up to one year to the University of California Los Angeles (UCLA). This is not a formal request for applications. Assistance will be provided only to the University of California Los Angeles (UCLA) based on the receipt of a satisfactory application that is approved by an independent review group.

Funding Opportunity Title: TI-12-001.

Catalog of Federal Domestic Assistance (CFDA) Number: 93.243.

Authority: Foreign Operations and Related Programs Appropriations Act, 2010 (Division F, Pub. L. III-J 17). Funding for this program is made available through the State Department.

Justification: Only the University of California Los Angeles (UCLA) is eligible to apply. The Substance Abuse and Mental Health Services Administration (SAMHSA) is seeking to award a supplemental grant to the University of California Los Angeles (UCLA) to expand/enhance grant activities funded under the FY 2011 Cooperative Agreement for the Drug Demand Reduction Initiative for Iraq. This initiative builds on work begun as part of the 2010 Iraq-SAMHSA Initiative, which supported a team of behavioral health professionals from the Government of Iraq (GOI Team) who visited substance abuse sites in the U.S. to learn about establishing substance abuse services and training.

The purpose of the supplemental funding is to provide logistical and fiscal management support, and training for project-related activities in Iraq, including SBIRT and other trainings planned to take place in Iraq.

At a minimum the funds awarded will be used to conduct the following activities:

• Develop a plan to provide logistical and fiscal management support for project-related activities in Iraq, including SBIRT and other trainings planned to take place in Iraq.

• Develop a plan for the United Nations Office on Drugs and Crime rapid assessment of the current substance use trends in Iraq and assist in the establishment of the Community Epidemiology Workgroup.

• Provide an implementation plan in the context of the overall project and an updated timeline, which shows how funds will be used to enhance logistics and financial management of the project.

• Provide a plan on how individuals served as a result of the supplemental activities will be incorporated into the ongoing Government Performance and Results Modernization Act of 2010 (GPRA) activities.

Contact: Shelly Hara, Substance Abuse and Mental Health Services Administration, 1 Choke Cherry Road, Room 8-1095, Rockville, MD 20857; telephone: (240) 276-2321; Email: shelly.hara@samhsa.hhs.gov.

Cathy Friedman,
SAMHSA Public Health Analyst.

[FR Doc. 2012-11702 Filed 5-14-12; 8:45 am]

BILLING CODE 4162-20-P